DEPARTMENT OF HEALTH AND HUMAN SERVICES

Administration for Children and Families

Administration for Native Americans; Notice of Meeting

AGENCY: Administration for Children and Families, Department of Health and Human Services.

ACTION: Notice of Tribal Consultation.

SUMMARY: The Department of Health and Human Services (HHS), Administration for Children and Families (ACF) will host a Tribal Consultation to consult on ACF programs and tribal priorities.

DATES: May 21, 2015.

ADDRESSES: 901 D Street SW., Washington, DC.

FOR FURTHER INFORMATION CONTACT: Lillian A. Sparks Robinson, Commissioner, Administration for Native Americans at 202-401-5590, by email at Lillian.sparks@acf.hhs.gov, or by mail at 370 L'Enfant Promenade SW., 2 West, Washington, DC 20447.

SUPPLEMENTARY INFORMATION: On November 5, 2009, President Obama signed the “Memorandum for the Heads of Executive Departments and Agencies on Tribal Consultation.” The President stated that his Administration is committed to regular and meaningful consultation and collaboration with tribal officials in policy decisions that have tribal implications, including, as an initial step, through complete and consistent implementation of Executive Order 13175.

The United States has a unique legal and political relationship with Indian tribal governments, established through and confirmed by the Constitution of the United States, treaties, statutes, executive orders, and judicial decisions. In recognition of that special relationship, pursuant to Executive Order 13175 of November 6, 2000, executive departments and agencies are charged with engaging in regular and meaningful consultation and collaboration with tribal officials in the development of federal policies that have tribal implications and are responsible for strengthening the government-to-government relationship between the United States and Indian tribes.

HHS has taken its responsibility to comply with Executive Order 13175 very seriously over the past decade, including the initial implementation of a Department-wide policy on tribal consultation and coordination in 1997, and through multiple evaluations and revisions of that policy, most recently in 2010. ACF has developed its own agency-specific consultation policy that complements the Department-wide efforts.

The ACF Tribal Consultation Session will begin the morning of May 21, 2015, and continue throughout the day until all discussions have been completed. To help all participants to prepare for this consultation, planning teleconference calls will be held on:

Wednesday, April 29, 2015, 3:00 p.m.-4:00 p.m. Eastern Time

Wednesday, May 6, 2015, 3:00 p.m.-4:00 p.m. Eastern Time

Wednesday, May 13, 2015, 3:00 p.m.-4:00 p.m. Eastern Time

The call-in number is: 866-769-9393. The passcode is: 4449449#.

The purpose of the planning calls will be to identify individuals who will provide testimony to ACF, solicit for tribal moderators, and identify specific topics of interest so we can ensure that all appropriate individuals are present.

Testimonies are to be submitted no later than May 15, 2015, to: Lillian Sparks Robinson, Commissioner, Administration for Native Americans, 370 L'Enfant Promenade SW., Washington, DC 20447, anacommissioner@acf.hhs.gov.

To register for the Consultation, please visit: https://www.surveymonkey.com/s/2015ACFTribalConsultation.

Dated: April 3, 2015.
Mark H. Greenberg,
Acting Assistant Secretary for Children and Families.

[FR Doc. 2015-08598 Filed 4-13-15; 8:45 am]

BILLING CODE 4184-01-P